DEPARTMENT OF TRANSPORTATION

Federal Aviation Administration

14 CFR Part 25

[Docket No. NM258; Special Conditions No. 25-240-SC]

Special Conditions: Boeing Model 747SP Airplane; Aft Lower Lobe Service/Cargo Compartment

AGENCY: Federal Aviation Administration (FAA), DOT.

ACTION: Final special conditions; request for comments.

SUMMARY: These special conditions are issued for a Boeing Model 747SP airplane modified by JRG Design Inc., Greensboro, North Carolina. This modified airplane will have a novel or unusual design feature when compared to the state of technology envisioned in the airworthiness standards for transport category airplanes. The modification is associated with an aft lower lobe compartment that will serve as both a service compartment and a Class C cargo compartment. The applicable airworthiness regulations do not contain adequate or appropriate safety standards for this design feature. These special conditions contain the additional safety standards that the Administrator considers necessary to establish a level of safety equivalent to that established by the existing airworthiness standards.

EFFECTIVE DATE: The effective date of these special conditions is July 2, 2003. Comments must be received on or before August 21, 2003.

ADDRESSES: Comments on these special conditions may be mailed in duplicate to: Federal Aviation Administration, Transport Airplane Directorate, Attention: Rules Docket (ANM-113), Docket No. NM258, 1601 Lind Avenue SW., Renton, Washington 98055-4056; or delivered in duplicate to the Transport Airplane Directorate at the above address. All comments must be marked: Docket No. NM258.

FOR FURTHER INFORMATION CONTACT: Alan Sinclair, FAA, Airframe/Cabin Safety, ANM-115, Transport Airplane Directorate, 1601 Lind Avenue SW., Renton, Washington, 98055-4056; telephone (425) 227-2195; facsimile (425) 227-1149.

SUPPLEMENTARY INFORMATION: The FAA has determined that notice and opportunity for prior public comment hereon are impracticable, because those procedures would significantly delay issuance of the approval design and thus delivery of the affected aircraft. The FAA, therefore, finds that good cause exists for making these special conditions effective upon issuance.

Background

On October 29, 2001, JRG Design Inc. applied for a supplemental type certificate for a Boeing Model 747SP airplane to combine the functions of a service compartment and a Class C cargo compartment in the aft lower lobe compartment. Boeing Model 747SP series airplanes, currently approved under Type Certificate A20WE, are large transport category airplanes with upper and main passenger decks. The airplanes are limited to 400 passengers or fewer, depending on the interior configuration. As part of the type design, certified Class C cargo compartments are installed below the main deck.

JRG Design Inc. proposes to modify the interior of a 747SP airplane for use by a head-of-state. As part of the modification, JRG proposes to include two ladders from the main deck into the aft lower lobe cargo compartment and to use that compartment as a combined service compartment and Class C cargo compartment. The compartment would use materials meeting the flammability standards for Class C cargo compartments and would include smoke detectors. Access would be limited to one trained crewmember and would be allowed during flight, but not during taxi, takeoff or landing or if there were a fire.

As part of the safety enhancement necessary to allow occupancy of the aft lower lobe service/cargo compartment by a crewmember, JRG proposes the installation of warning and emergency equipment, as defined for a lower lobe service compartment in § 25.819. Speakers, warning lights, and buzzers will be installed in the aft lower lobe service/cargo compartment to warn an occupant of turbulent conditions, the presence of smoke or fire, or the need to leave the area. A crew interphone will be provided for communications with the flight deck. In addition, emergency equipment will be provided to that occupant in case of decompression. No seat will be installed in this area, as required by § 25.819(f), because of the reduced height and accessibility of the area.

JRG Design Inc. indicates that the aft lower lobe service/cargo compartment will meet the Class C cargo requirements of § 25.857(c). The compartment will be equipped with an approved built-in fire extinguisher or suppression system which is controllable from the cockpit to eliminate the need to send someone into the compartment to fight a fire. In the event of a fire, the aft lower lobe service/cargo compartment will be evacuated, and the pilot will activate the fire suppression system. A means will be provided to prevent inadvertent access to the compartment when the fire suppression system has been activated.

The existing regulations address separate service areas and Class C cargo compartments but do not address a single compartment that has both uses. The requirements for these compartments are not only different, but also incompatible. For example, the service compartment may be occupied (except during taxi, takeoff, and landing), but the Class C cargo compartment must not be occupied. In addition, fire fighting is dealt with differently in the two compartments. The crew fights a fire in a service compartment, whereas a flooding extinguisher system is used in a Class C cargo compartment.

The concept of a single, multi-use compartment which JRG proposes would be acceptable, if the FAA could be assured that whether the compartment is used as a service compartment or as a Class C cargo compartment, the level of safety would be equivalent to that of a separate service compartment or a separate Class C cargo compartment. Therefore, special conditions that provide an equivalent level of safety are being required; these special conditions pertain to visible and audible warnings, placards and limitations, equipment, evacuation routes, training, and the use of ladders between the main deck and the aft lower lobe service/cargo compartment.

Type Certification Basis

Under the provisions of § 21.101 Amendment 21-69, effective September 16, 1991, JRG Design Inc. must show that the Model 747SP airplane, as modified, continues to meet the applicable provisions of the regulations incorporated by reference in Type Certificate A20WE or the applicable regulations in effect on the date of application for the change.

The regulations incorporated by reference in the type certificate are commonly referred to as the “original type certification basis.” The regulations incorporated by reference in Type Certificate A20WE for the Boeing Model 747SP series airplanes include 14 CFR part 25, as amended by Amendments 25-1 through 25-8 and 25-15, 25-17, 25-18, 25-20 and 25-39, with certain exceptions and special conditions as listed in the type certificate data sheet. The U.S. type certification basis for the Boeing Model 747SP series airplane is established in accordance with 14 CFR 21.17 and 21.21 and the type certification application date. The type certification basis is listed in Type Certificate Data Sheet No. A20WE.

If the Administrator finds that the applicable airworthiness regulations (i.e., 14 CFR part 25) do not contain adequate or appropriate safety standards for a Boeing Model 747SP series airplane because of a novel or unusual design feature, special conditions are prescribed under the provisions of § 21.16.

In addition to the applicable airworthiness regulations and special conditions, the Boeing Model 747SP airplane must comply with the fuel vent and exhaust emission requirements of 14 CFR part 34 and the noise certification requirements of 14 CFR part 36.

Special conditions, as defined in § 11.19, are issued in accordance with § 11.38 and become part of the type certification basis in accordance with § 21.101(b)(2) Amendment 21-69, effective September 16, 1991.

Special conditions are initially applicable to the model for which they are issued. Should the applicant apply for a supplemental type certificate to modify any other model included on the same type certificate to incorporate the same novel or unusual design feature, the special conditions would also apply to the other model under the provisions of § 21.101(a)(1).

Novel or Unusual Design Features

The Boeing Model 747SP airplane will incorporate a novel or unusual design feature; specifically, the aft lower lobe compartment will be used as a combined service compartment and Class C cargo compartment.

Discussion

The requirements for lower deck service compartments (in § 25.819) are incompatible with the requirements for cargo compartments (in §§ 25.855, 25.857, and 25.858). For example, to use the fire control system of a Class C cargo compartment, the compartment must be unoccupied, because the means of fire control is to flood the compartment with fire suppressant. The fire control system of a service compartment, however, would not normally utilize a flood-type fire suppressant, since the compartment might be occupied.

The requirements in these special conditions allow the aft lower lobe to be used as a combined service compartment and Class C cargo compartment during flight. To make this concept work, the special conditions require certain visible and audible warnings, placards and limitations, evacuation routes, equipment, and training; the special conditions also establish requirements for use of ladders between the main deck and the aft lower lobe service/cargo compartment.

The applicant has not proposed a means of satisfying regulatory requirements governing occupancy of the aft lower lobe service/cargo compartment during taxi, takeoff, and landing. Therefore, the FAA will specify appropriate limitations for such occupancy.

Special Condition 1—Visible and Audible Warnings

Currently, § 25.819 specifies that a service compartment may be occupied and does not need to be evacuated under certain normal conditions or under certain unsafe conditions (e.g., in the case of fire, the occupant could function as a firefighter). Sections 25.855 and 25.857, however, specify that a Class C cargo compartment must not be occupied, that fire detection must be automatic, and that fire suppression must rely on a total flood system. To maintain the advantages of both a service compartment and a Class C cargo compartment, certain warnings need to be provided.

Special Condition 1a. requires a visible advisory in the cockpit to notify the flightcrew when the aft lower lobe service/cargo compartment is occupied. The potential exists that the aft lower lobe service/cargo compartment may inadvertently be occupied when it should not be, such as during taxi, takeoff or landing or during certain emergencies. Special Condition 1(a) ensures that the flightcrew is aware that the aft lower lobe service/cargo compartment is occupied and that the flightcrew takes appropriate action to evacuate the compartment before flooding it with fire suppressant. There must be a placard or sign nearby which indicates that the light means that the compartment is occupied.

Special Condition 1b. requires an “on/off” visible warning stating “Do Not Enter” (or similar words) to be located outside and on or near the door from the main deck to the aft lower lobe service/cargo compartment. The warning is to be controlled from the flight deck to prevent someone from entering the aft lower lobe service/cargo compartment when it should not be occupied, such as during taxi, takeoff or landing or when smoke or fire has been detected. Opening the door during a fire would degrade the effectiveness of the fire suppressant and allow smoke, flame, and/or fire suppressant into the cabin.

Special Condition 1c. requires a visible and audible warning in the aft lower lobe service/cargo compartment to notify an occupant that he or she must evacuate the compartment. This warning must be one which can be seen and heard from any part of the compartment. The visible and audible warning is to be controlled from the flight deck. Because the aft lower lobe service/cargo compartment may be occupied on the ground or in the air, a warning must be provided to notify an occupant to leave the compartment prior to taxi, takeoff or landing or during certain emergencies (other than fire, which is dealt with under Special Condition 1(e). A visible warning is required, in case the audible warning becomes masked or distorted by engine, equipment, or ground noises.

Special condition 1d. requires a visible and audible warning in the aft lower lobe service/cargo compartment to notify an occupant of the need to use a portable oxygen bottle in the event of decompression. This warning must be one which can be seen and heard from any part of the compartment and must be distinct from other warnings in the compartment to prevent confusion and to elicit correct action. The decompression warning must be automatic (i.e., not require separate crew action) to ensure that an occupant of the aft lower lobe service/cargo compartment does not delay putting on the mask attached to the portable oxygen bottle. This section of the special conditions is partially in lieu of the visible effect provided by the automatic presentation feature required by § 25.1447.

Special Condition 1e. requires a visible and audible warning in the aft lower lobe service/cargo compartment when a fire is detected to notify an occupant that he or she must evacuate the compartment. The warning must be one which can be seen and heard from any part of the compartment and must be distinct from other warnings in the compartment in order to prevent confusion and to elicit the correct actions. The fire or smoke detection warning must be automatic (i.e., not require or depend on separate crew action) to ensure that an occupant of the aft lower lobe service/cargo compartment leaves before the flightdeck crew releases fire suppressant in the compartment.

Special Condition 2—Placards and Limitations

The aft lower lobe service/cargo compartment must be evacuated if a fire occurs. In addition, there must be a way to prevent access into the compartment during taxi, takeoff or landing or in the event of a fire. Placards and limitations are specified for these situations.

Special Condition 2a. requires a placard to be located outside the hatch to the aft lower lobe service/cargo compartment doors, indicating that access is limited to one crewmember trained in evacuation procedures. The accommodations and the availability of only one oxygen bottle necessitate limiting access.

Special Condition 2b. requires placards to be located inside and outside the hatches of the aft lower lobe service/cargo compartment, indicating that the compartment hatch must remain closed, except when someone is entering, occupying, or leaving the compartment. The smoke and fire detection and suppression systems are to be certified with the hatches closed; therefore, the hatches must remain closed.

Special Condition 2c. requires placards inside and outside the hatches of the aft lower lobe service/cargo compartment, indicating that occupancy of the compartment should be of minimum duration. Because of this limitation, the requirement of § 25.819(f) to provide a seat is unnecessary.

Special Condition 2d. requires a limitation to be placed in the airplane flight manual (AFM) and placards to be posted inside and outside the hatches of the aft lower lobe service/cargo compartment, all stating that the compartment may not be occupied during taxi, takeoff, or landing or during a fire. These placards are being required, because the compartment is not being certified for occupancy during taxi, takeoff, or landing and because the compartment must not be occupied during a fire so that an occupant is not exposed to fire or to fire suppressant. These placards are somewhat redundant, given the warning required under 1(b) and 1(c) but would provide information to an occupant, if the flightcrew failed to activate the warnings of 1(b) and 1(c).

Special Condition 2e. requires that the AFM supplement include the following with respect to the aft lower lobe service/cargo compartment:

• Flightdeck crew instructions for allowing access

• Procedures, including warning and evacuation procedures, for the flightcrew to follow in the event of fire or smoke

• Procedures, including warning and evacuation procedures, for the flightcrew to follow in the event of decompression; and

• Limitations on occupancy during taxi, takeoff, or landing.

This special condition also requires that the weight and balance manual include cargo loading restrictions requiring cargo to be loaded and restrained so as to maintain escape paths. These requirements are to ensure that a single member of the flightcrew could access the cargo compartment safely during flight and exit safely during failure conditions.

Special Condition 2f. Because access is being provided to the aft lower lobe service/cargo compartment, there is concern that during flight, passengers may retrieve hazardous materials or weapons stored in luggage. Access could be prevented by locking the aft lower lobe service/cargo compartment, and that is being specified as one solution (in Special Condition 2(f)(1)). However, this airplane is being designed for use by a head-of-state, it will have limited access, and it will have placards limiting access. Furthermore, there will be notification to the flightcrew when the aft lower lobe service/cargo compartment is occupied (in Special Condition 1(a)). Special Condition 2(f)(2), therefore, would prohibit the airplane from being operated for hire or offered for common carriage.

Special Condition 3—Equipment

In addition to that required by § 25.819, Special Condition 3 requires the following equipment:

Special Condition 3a. requires that a portable oxygen bottle be available at all times and that it be sufficient to supply a member of the flightcrew who is occupying the aft lower lobe service/cargo compartment (except during taxi, takeoff, or landing or during a fire). Because it would not be advisable to provide drop-down masks in a cargo compartment or to store a portable oxygen bottle in the compartment, the FAA is requiring that a portable oxygen bottle be mounted outside each main deck entrance of the aft lower lobe service/cargo compartment. A member of the flightcrew must carry the portable oxygen bottle, when he or she enters the compartment. The supply of oxygen must be compatible with the emergency descent profile following a decompression.

Special Condition 3b. requires supplemental handheld lighting (with locator light) when an occupant is in the aft lower lobe service/cargo compartment and power to the compartment is off, or the emergency escape path lighting is off or lost, or if visibility is poor. At least two flashlights are required. One flashlight would be located adjacent to each emergency exit in the aft lower lobe service/cargo compartment at the foot of the stairs in the compartment. Note that this requirement is in addition to the automatic emergency lighting system required by § 25.819(a).

Special Condition 3c. obviates the need to comply with the requirements of § 25.819(f) for the installation of a forward or aft facing seat for each occupant of the compartment. The compartment's physical constraints, such as the reduced ceiling height and limited accessibility, make the installation of a seat impractical and prohibitive.

Special Condition 4—Evacuation Routes

Special Condition 4 requires, in addition to the two evacuation routes (including an exit) specified by § 25.819(a), procedures to keep the evacuation routes clear. The cargo in the compartment must be restrained to ensure that the crewmember's paths to the exits are clear. Further, all entrances and exits from the aft lower lobe service/cargo compartment must be capable of being closed after exiting. In addition to the concern for cargo blocking the escape paths, there is concern about hazardous quantities of smoke, flames, or fire suppressant entering compartments occupied by passengers or crew and about the loss of fire suppressant from the compartment during a fire. The aft lower lobe service/cargo compartment must be capable of being closed, because after evacuation it must comply with the requirements applicable to the Class C cargo compartment, including §§ 25.855, 25.857, and 25.858.

Special Condition 5—Training

Because the design features required by these special features can fulfill their safety objectives only if crewmembers are properly trained in their use, these special conditions require the applicant to develop the following training materials:

Special Condition 5a. requires training materials about use of the aft lower lobe service/cargo compartment and actions associated with the warnings and placards required by these special conditions.

Special Condition 5b. requires training materials about entering and exiting the aft lower lobe service/cargo compartment, including emergency exiting, (associated with Special Conditions 1(b), 1(c), 1(d), 1(e), 2(a), 2(b), 2(c), 2(d), and 3(b)).

Special Condition 5c. requires training materials about checking the pressure of the portable oxygen bottle prior to entering the aft lower lobe service/cargo compartment (associated with Special Condition 3(a)).

Special Condition 5d. requires training materials about carrying a portable oxygen bottle when entering the aft lower lobe service/cargo compartment (associated with Special Condition 3(a)).

Special Condition 5e. requires training materials about maintaining an exit aisle and access to the evacuation routes from the lower lobe service/cargo compartment (associated with Special Condition 3(c)).

Special Condition 6—Ladders

The ladders between the aft lower lobe service/cargo compartment and the main deck must meet the following requirements:

Special Condition 6a. requires that the ladders consist of a single segment.

Special Condition 6b. requires that the ladders have essentially rectangular treads.

Special Condition 6c requires that general illumination of at least 0.05 foot-candle, when measured along the centerlines of each tread, must be provided.

Applicability

As discussed above, these special conditions are applicable to the Boeing Model 747SP airplane. Should JRG Design Inc. apply at a later date for a supplemental type certificate to modify any other model included on Type Certificate A20WE to incorporate the same novel or unusual design feature, the special conditions would apply to that model as well under the provisions of § 21.101(a)(1) Amendment 21-69, effective September 16, 1991.

Under standard practice, the effective date of final special conditions would be 30 days after the date of publication in the Federal Register. However, the issuance of a supplemental type certificate data sheet for the Boeing Model 747SP, as modified by JRG Design Inc., is imminent. The FAA finds, therefore, that good cause exists to make these special conditions effective upon issuance.

Conclusion

This action affects only certain novel or unusual design features on one model of airplane. It is not a rule of general applicability, and it affects only the applicant which applied to the FAA for approval of these features on the airplane.

List of Subjects in 14 CFR Part 25

Aircraft, Aviation safety, Reporting and recordkeeping requirements.

The authority citation for these special conditions is as follows:

Authority: 49 U.S.C. 106(g), 40113, 44701, 44702, 44704.

The Special Conditions

Accordingly, pursuant to the authority delegated to me by the Administrator, the following special conditions are issued as part of the type certification basis for the Boeing Model 747SP-68 airplane modified by JRG Design Inc. to include an aft lower lobe compartment configured for use as both a service compartment and a Class C cargo compartment.

1. Visible and Audible Warnings

In addition to the audible warnings about detection of fire or smoke or decompression which are required by § 25.819(c), the following warnings are required:

a. A visible advisory in the cockpit to notify the flightcrew when the aft lower lobe service/cargo compartment is occupied. The advisory light must be accompanied by a placard or message indicating that the compartment is occupied.

b. An (on/off) visible warning stating “Do Not Enter” (or similar words) located outside and on or near the door from the main deck to the aft lower lobe service/cargo compartment. The warning is to be controlled from the flight deck.

c. A visible and audible warning in the aft lower lobe service/cargo compartment to notify an occupant when he or she must evacuate the compartment. The warning must be one which can be seen and heard from any part of the compartment. The warning is to be controlled from the flight deck.

d. A visible and audible warning in the aft lower lobe service/cargo compartment'which in the event of decompression'warns an occupant of the need to use a portable oxygen bottle. This warning must be one which can be seen and heard from any part of the compartment and must be distinct from other warnings in the compartment. The decompression warning must be automatic (i.e., not require separate crew action), to ensure that an occupant of the aft lower lobe service/cargo compartment does not delay using a portable oxygen bottle. This section of the special condition is partially in lieu of the visible effect provided by the automatic presentation feature required by § 25.1447.

e. A visible and audible warning in the aft lower lobe service/cargo compartment—which in the event of a fire—warns an occupant of the need to evacuate the compartment. This warning must be one which can be seen and heard from any part of the compartment and should be distinct from other warnings in the compartment. The fire or smoke detection warning must be automatic (i.e., not require a separate crew action) to ensure that an occupant of the aft lower lobe service/cargo compartment leaves before the flight deck crew releases fire suppressant.

2. Placards and Limitations

In addition to those required in part 25, the following placards and limitations are required:

a. A placard located outside the hatch to the aft lower lobe service/cargo compartment, indicating that access to the compartment is limited to one crewmember trained in evacuation procedures.

b. A placard located inside and outside the hatches on the aft lower lobe service/cargo compartment, indicating that the compartment hatches must remain closed, except when someone is entering, occupying, or leaving the compartment.

c. In lieu of compliance with § 25.819(f), a placard must be installed inside and outside the hatches on the aft lower lobe service/cargo compartment, indicating that occupancy of the compartment should be of minimum duration.

d. A limitation in the AFM and a placard inside and outside the hatches to the aft lower lobe service/cargo compartment, all stating that (1) the aft lower lobe service/cargo compartment must not be occupied during taxi, takeoff, or landing or during a fire and (2) only authorized personnel are permitted access.

e. Instructions in the AFM regarding permissible occupancy of the compartment; limitations on occupancy of the compartment during taxi, takeoff or landing; procedures for warning occupants of the compartment that smoke or fire has been detected; procedures for fighting a fire in the compartment; procedures for warning occupants of the compartment that decompression has occurred; and cargo loading restrictions in the weight and balance manual.

f. A Limitation in the AFM Supplement stating that:

“Carriage of hazardous material and/or weapons in the aft lower lobe service/cargo compartment is prohibited unless the following conditions are met:

(1) The compartment is locked during flight, and the key remains with the flight crew, or

(2) The airplane is not operated for hire or offered for common carriage. This provision does not preclude the operator from receiving remuneration to the extent consistent with 14 CFR part 125, 14 CFR part 91, and subpart F, as applicable.”

3. Equipment

In addition to that required by §§ 25.819 and 25.829(a), the following equipment is required:

a. A portable oxygen bottle must be mounted outside each main deck entrance of the aft lower lobe service/cargo compartment. The portable oxygen bottle must be sufficient to supply a member of the flightcrew who is occupying the aft lower lobe service/cargo compartment and must be carried by the flightcrew member.

b. Flashlights or other supplemental handheld lighting, in addition to the emergency illumination required by § 25.829(a). At least two flashlights—each equipped with a locator light—must be provided. One flashlight must be located adjacent to each emergency exit in the aft lower lobe service/cargo compartment at the foot of the stairs in the compartment.

c. The requirement of § 25.819(f) for a forward or aft facing seat for each occupant of the compartment is waived, because the physical constraints of the compartment, such as the reduced height and limited accessibility make the installation of a seat impractical and prohibitive.

4. Evacuation Routes

In addition to the two evacuation routes (including an exit) specified by § 25.819(a), procedures must be established in the AFM Supplement to keep the evacuation routes clear. The cargo in the compartment must be restrained to ensure that the crewmember's paths to the exits are clear. Further, all entrances and exits from the aft lower lobe service/cargo compartment must be capable of being closed after exiting. The aft lower lobe service/cargo compartment must be capable of being closed, because after evacuation it must comply with the requirements applicable to the Class C cargo compartment, including §§ 25.855, 25.857, and 25.858.

5. Training

Training materials which address the following procedures must be provided:

a. Use of the aft lower lobe service/service compartment and actions indicated by the warnings and placards specified herein.

b. Entering and exiting the aft lower lobe service/cargo compartment, including emergency exiting.

c. Checking the pressure of the portable oxygen bottle prior to entering the aft lower lobe service/cargo compartment.

d. Carrying a portable oxygen bottle when entering the aft lower lobe service/cargo compartment.

e. Maintaining an exit aisle and access to evacuation routes from the aft lower lobe service/cargo compartment. Training must address how to keep the evacuation routes clear, i.e., how to restrain cargo in the compartment to ensure that the paths to the exits are clear.

f. A limitation in the AFM Supplement stating that all personnel accessing the aft lower lobe service/cargo compartment must be trained in the procedures listed above.

6. Ladders

The following requirements must be met for ladders between the main deck and the aft lower lobe service/cargo compartment:

a. The ladders must consist of a single segment.

b. The ladders must have essentially rectangular treads.

c. General illumination of at least 0.05 foot-candle, when measured along the centerlines of each ladder tread, must be provided.

Issued in Renton, Washington, on July 2, 2003.
Ali Bahrami,
Assistant Director, Transport Airplane Directorate, Aircraft Certification Service.

[FR Doc. 03-18625 Filed 7-21-03; 8:45 am]

BILLING CODE 4910-13-P